DEPARTMENT OF TRANSPORTATION

Federal Aviation Administration

Public Notice for Waiver of Aeronautical Land-Use Assurance; Gerald R. Ford International Airport, Grand Rapids, Michigan

AGENCY: Federal Aviation Administration, DOT.

ACTION: Notice of intent of waiver with respect to land.

SUMMARY: The Federal Aviation Administration (FAA) is considering a proposal to change a portion of the airport from aeronautical use to non-aeronautical use and to authorize the sale of the airport property. The proposal consists of 3 parcels of land totaling approximately 16.33 acres. Current use and present condition is vacant grassland. The land was acquired under FAA Project Nos. 8-26-0039-02 and 91-2-3-26-0039-1292. There are no impacts to the airport by allowing the airport to dispose of the property. The proposal concerns selling the land to the County of Kent, Michigan to provide a right-of-way for the proposed 36th Street extension in the northeast quadrant of the airport. Approval does not constitute a commitment by the FAA to financially assist in the disposal of the subject airport property nor a determination of eligibility for grant-in-aid funding from the FAA. The disposition of proceeds from the disposal of the airport property will be in accordance with FAA's Policy and Procedures Concerning the Use of Airport Revenue, published in the Federal Register on February 16, 1999.

In accordance with section 47107(h) of title 49, United States Code, this notice is required to be published in the Federal Register 30 days before modifying the land-use assurance that requires the property to be used for an aeronautical purpose.

DATES: Comments must be received on or before January 5, 2003.

FOR FURTHER INFORMATION CONTACT: Mr. Lawrence C. King, Project Manager, Federal Aviation Administration, Great Lakes Region, Detroit Airports District Office, DET ADO 607, 11677 South Wayne Road, Romulus, Michigan 48174. Telephone Number (734) 229-2933/FAX Number (734) 229-2950. Documents reflecting this FAA action may be reviewed at this same location or at Gerald R. Ford International Airport, Grand Rapids, Michigan.

SUPPLEMENTARY INFORMATION: Following is a legal description of the property located in Grand Rapids, Kent County, Michigan, and described as follows:

Parcel A

Part of the southwest ¼ of section 21, T6N, R10W, Cascade Township, Kent County, Michigan, described as: Commencing at the south ¼ corner of said section; thence north 00° 48′ 27″ west along the north-south ¼ line of said section 1318.86 feet to the north line of the south ½ of the southwest ¼ line of said section; thence south 89° 32′ 08″ west along the north line of the south ½ of the southwest ¼ of said section 1492.97 feet to the place of beginning of this description; thence south 00° 27′ 52″ east 145.72 feet; thence south 54° 03′ 19″ west 93.21 feet to the northeasterly right of way line of relocated Thornapple River Drive (120.00 feet wide); thence northwesterly 238.56 feet along the northeasterly right of way of relocated Thornapple River Drive and a 1,213.24 foot radius curve to the right, the long chord of which bears north 33° 25′ 49″ west 238.17 feet to the north line of the south ½ of the southwest ¼ of said section; thence north 89° 32′ 08″ east along the north line of the south ½ of the southwest ¼ of said section 205.50 feet to the place of beginning. Parcel contains 26,993.56 square feet or 0.620 acres.

Parcel B

Part of the northwest ¼ of section 20, the northeast ¼ of section 20, and the southwest ¼ of section 17, all in T6N, R10W, Cascade Township, Kent County, Michigan, the centerline of proposed 36th Street (120.00 feet wide) is described as: Commencing at the east ¼ corner of said section 20; thence north 00° 46′ 17″ west along the east line of said section 20, 739.36 feet; thence north 45° 58′ 30″ west 105.69 feet to the west right of way line of Thornapple River Drive (150.00 feet wide) and the place of beginning of said centerline; thence north 45° 58′ 30″ west 1019.63 feet; thence northwesterly 1584.53 feet along a 2864.79 foot radius curve to the left, the long chord of which bears north 61° 49′ 13″ west 1564.41 feet; thence north 77° 39′ 56″ west 482.26 feet to a point on the east lie of the northwest ¼ of said section 20 (said point being 302.15 feet south 00° 46′ 47″ east from the northeast corner of the northwest ¼ of said section 20); thence north 77° 39′ 56″ west 948.25 feet; thence westerly 397.82 feet along a 2,864.79 foot radius curve to the left, the long chord of which bears north 84° 19′ 08″ west 397.50 feet to the east line of the west ½ of the northwest ¼ of said section 20, the place of ending of said centerline. Parcel contains 12.21 acres, more or less.

Parcel C

Part of the northeast ¼ of section 20, T6N, R10W, Cascade Township, Kent County, Michigan, described as: Commencing at the northeast corner of said section; thence south 00° 46′ 17″ east along the east line of the northeast ¼ of said section 1658.17 feet; thence South 89° 13′ 43″ west 75.00 feet to the intersection of the westerly right of way line of Thornapple River Drive (150.00 feet wide) and the southwesterly line of Highway I-96 right of way, the place of beginning of this description; thence south 00° 46′ 17″ east along the westerly right of way line of Thornapple River Drive 98.19 feet to a point 60.00 feet northeasterly (perpendicular measure) from the centerline of proposed 36th Street; thence north 45° 58′ 30″ west parallel with the centerline of proposed 36th Street 960.05 feet; thence northwesterly 1084.69 feet parallel with the centerline of proposed 36th Street and along a 2,924.79 foot radius curve to the left, the long chord of which bears north 56° 35′ 58″ west 1078.48 feet; thence north 38° 40′ 44″ east 167.39 feet to the southwesterly line of Highway I-96 right of way; thence southwesterly 644.15 feet along the southwesterly line of Highway I-96 right of way and a 11,309.16 foot radius curve to the right, the long chord of which bears south 49° 41′ 21″ east 644.07 feet; thence south 89° 39′ 26″ east along the southwesterly line of highway I-96 right of way 70.61 feet; thence southwesterly 292.07 feet along the southwesterly line of highway I-96 right of way and a 11,356.16 foot radius curve to the right, the long chord of which bears south 47° 03′ 15″ east 292.07 feet; thence south 46° 19′ 03″ east along the southwesterly right of way of highway I-96 right of way 980.68 feet to the place of beginning of this description. Parcel contains 3.50 acres.

Total acres to be released are 16.33, more or less.

Issued in Romulus, Michigan on December 4, 2003.
Winsome A. Lenfert,
Acting Manager, Detroit Airports District Office, FAA, Great Lakes Region.

[FR Doc. 03-31418 Filed 12-19-03; 8:45 am]

BILLING CODE 4910-13-M